DEPARTMENT OF HOMELAND SECURITY

Coast Guard

[Docket Number USCG-2021-0183]

Draft Programmatic Environmental Impact Statement Expansion and Modernization of Base Seattle

AGENCY: Coast Guard, DHS.

ACTION: Notice of Availability for Draft Programmatic Environmental Impact Statement Expansion and Modernization of Base Seattle; and request for comments.

SUMMARY: In accordance with the National Environmental Policy Act (NEPA) of 1969 as amended and the Council on Environmental Quality NEPA Regulations, the U.S. Coast Guard announces the availability of the Draft Programmatic Environmental Impact Statement (PEIS) for the Expansion and Modernization of Base Seattle. The Draft PEIS analyzes the potential environmental and socioeconomic impacts, and identifies related mitigation measures, associated with land acquisition, facility and infrastructure modernization, and continued operation to support current and future Coast Guard missions at Base Seattle. By this notice, Coast Guard is announcing the availability of the draft PEIS for public review and comment.

DATES: Comments and related material must be post-marked or received by the Coast Guard on or before December 2nd, 2022.

ADDRESSES: The PEIS can be reviewed at https://www.dcms.uscg.mil/Our-Organization/Assistant-Commandant-for-Engineering-Logistics-CG-4-/Program-Offices/Environmental-Management/Environmental-Planning-and-Historic-Preservation/. Comments can be submitted to docket number USCG-2021-0183 using the Federal eRulemaking Portal at https://www.regulations.gov/. See the “Public Participation and Request for Comments” portion of the SUPPLEMENTARY INFORMATION section for further instructions on submitting comments.

FOR FURTHER INFORMATION CONTACT: Requests for additional information should be sent to Dean Amundson, Coast Guard; telephone 510-637-5541, BaseSeattlePEIS@uscg.mil.

SUPPLEMENTARY INFORMATION: Pursuant to section 102(2)(c) of the National Environmental Policy Act (NEPA) of 1969, sections 4321 et seq. of Title 42 United States Code, and Council on Environmental Quality Regulations (sections 1500-1508 of Title 40 Code of Federal Regulations [CFR]; CEQ), the Coast Guard announces the availability of a Draft PEIS for public comment. The Coast Guard published a Notice of Intent (NOI) to prepare a PEIS on May 7, 2021 (FR24637). The NOI formally announced a formal 45 day scoping period in which comments were received. The Coast Guard used these comments to develop the Draft PEIS that is the subject of this Notice.

I. Public Participation and Comments

The Coast Guard invites you to review the Draft PEIS. The Coast Guard will consider all submissions and may adjust our final analysis and decision based on your comments. If you submit a comment, please include the docket number for this notice, indicate the specific section of this document to which each comment applies, and provide a reason for each suggestion or recommendation.

Submitting Comments: You may submit comments on the Draft PEIS by one of the following methods:

• Via the Web: You may submit comments identified by docket number USCG-2021-0183 using the Federal eRulemaking Portal at https://www.regulations.gov.

• Via U.S. Mail: U.S. Coast Guard, Shore Infrastructure Logistics Center, Environmental Management Division, Attn: Mr. Dean Amundson, 1301 Clay Street, Suite 700N, Oakland, CA 94612-5203. Please note that mailed comments must be post-marked on or before the comment deadline of December 2nd, 2022.

Before including your address, phone number, email address, or other personal identifying information in your comment, you should be aware that your entire comment—including your personal identifying information—may be made publicly available in the docket.

II. Public Comment and Meeting

After publication of this Notice of Availability (NOA) of the Draft PEIS, the Coast Guard will receive public comments for 57 days. During this time period, the Coast Guard will hold a public meeting in Seattle, Washington. The public meeting will provide an additional opportunity to submit written comments on the Draft PEIS. The date and time of the public meeting will be announced in the Seattle Times. If special assistance is required to attend the meeting, contact the U.S. Coast Guard as indicated in FOR FURTHER INFORMATION CONTACT.

Upon the completion of the 57 day public comment period, the Coast Guard will prepare comment responses and publish its Final PEIS. This notice is issued under authority of NEPA, specifically in compliance with 42 U.S.C. 4332(2)(C) and CEQ implementing regulations in 40 CFR parts 1500 through 1508.

III. Purpose and Need

Base Seattle supports, and will continue to support, the Coast Guard's execution of its statutory missions, pursuant to 14 U.S.C. 102. The Coast Guard's Base Seattle is located on Puget Sound in Seattle, Washington. The Base serves as the homeport for several Coast Guard cutters and provides a full range of support functions for vessels and Coast Guard missions in the Pacific Northwest and Polar areas of operation.

The purpose of the Proposed Action is to provide adequate facilities and infrastructure at Base Seattle to support current and future execution of the Coast Guard's statutory missions. Base Seattle is the largest Coast Guard facility in the Pacific Northwest and is an essential facility to support Coast Guard missions in the Pacific Northwest and Polar regions now and for the foreseeable future. To continue to support Coast Guard mission execution throughout these regions, expansion and extensive modernization of Base Seattle is required.

The need for the Proposed Action is to address substantial existing deficiencies in facilities and infrastructure at Base Seattle that hinder the efficient execution of Coast Guard missions, as well as provide facility enhancements necessary to support current and future major cutters homeported at Base Seattle. Advances in major cutter technology require infrastructure enhancements and renovations to accommodate the increased size and shore-side support requirements associated with these advanced operating assets. The Coast Guard has identified deficiencies that include, but are not limited to, a lack of adequate land area, incompatible land uses, shortage of berthing capacity, out of date and inadequate facilities and infrastructure, and traffic congestion and parking shortfalls, as well as the need for improved resiliency in the event of natural disasters, and improved physical security capabilities.

IV. Scope of Analysis

The Draft PEIS identifies and examines the proposed action to expand and modernize Base Seattle, the reasonable alternatives available to the Coast Guard, and assesses the potential environmental impact of each. Future decisions to homeport major cutters at Base Seattle, as well as the fate of cutters currently homeported at Base Seattle, are independent actions from the modernization program evaluated in this PEIS and therefore these actions are not within the scope of the PEIS analysis. Additionally, the EPA is the lead agency for a potential removal of contamination in Slip 36 at Base Seattle under the Comprehensive Environmental Response, Compensation, and Liability Act (CERCLA). Since the Coast Guard is not the lead agency, and the project is being completed under CERCLA (exempt from NEPA), this action is independent of the Base Seattle modernization.

V. Alternatives

The Coast Guard has determined the requirements to modernize and upgrade existing facilities and infrastructure at Base Seattle. These requirements include resolving incompatible land uses, increasing berthing capacity, upgrading existing facilities and infrastructure, reducing congestion and parking shortfalls, providing a safer work environment, enhancing physical security capabilities, and providing new infrastructure, as necessary.

All action alternatives include demolition, rehabilitation/renovation, and construction of structures. In addition to buildings, the proposed construction actions would include utility replacement, upgrade, and modernization; seismic soil stabilization; upgrades to base security (fencing); expanded parking and flexible use space; and repair of internal road surfaces, hardscaping, and landscaping.

Once the program is fully executed, Base Seattle population would increase from the current level of 1,140 to an estimated 1,900 personnel.

The Coast Guard identified three reasonable alternatives that would meet the purpose and need of the Proposed Action.

1. Alternative 1: Modernization with Additional Land and Two Berths at Terminal 46 (Preferred Alternative). Under Alternative 1, approximately 27 to 54 acres of land would be acquired, including the 1.1-acre Belknap property and between 26 and 53 acres at Terminal 46 from the Port of Seattle. The acquired property at Terminal 46 would provide 1,070 linear feet of new Coast Guard berthing space. In addition to the construction activities discussed above, Alternative 1 would include the re-construction of portions of Terminal 46.

2. Alternative 2: Modernization with Additional Land from Terminals 30 and 46. Alternative 2 would expand Base Seattle both to the north and south. Under Alternative 2, many of the proposed infrastructure modernization and expansion elements would occur within the current Base boundaries or on land acquired at Terminal 30 and berthing requirements would be satisfied by the development of two new berths to the south (Pier 35 E/F). Land acquired at Terminal 46 would be used for active cutter support services, material laydown areas, and AT/FP setbacks. Land acquisition under Alternative 2 would include 21.5 to 29.5 acres of land, with the majority being 13.5 to 21.5 acres at Terminal 30, which would include Jack Perry Memorial Park. Two new berths would provide 1,120 linear feet of wharf space. The berths would be constructed through the Pier 35E/F development with one berth on currently owned Coast Guard property and a second berth constructed on acquired property at Terminal 30.

3. Alternative 3: Modernization with Additional Land and One Berth at Terminal 46. Under Alternative 3, Base Seattle would expand to the north through land acquisition at Terminal 46 and would infill the current Base footprint by acquiring currently leased properties. The minimum acquired land would total approximately 24.25 to 32.25 acres with the majority of land being 21.75 to 29.75 acres at Terminal 46. These elements include satisfying berthing requirements with construction of one new berth within the current Base boundaries (Pier 35E) and one additional existing berth at Terminal 46. Under this alternative, one existing berth totaling 560 LF would be acquired at Terminal 46. No further modifications are required for this berth. One berth would be constructed on Coast Guard property at proposed Pier 35.

The Coast Guard also carried forward the No Action Alternative for detailed analysis in the Draft PEIS. While the No Action Alternative would not satisfy the purpose and need for the Proposed Action, this alternative was retained to provide a comparative against which to analyze the effects of the Action Alternatives as required under CEQ's NEPA regulation.

VI. Findings of the Draft PEIS

The Draft PEIS analyzes the potential environmental and socioeconomic impacts associated with the Proposed Action, action alternatives and the No Action Alternative; including direct, indirect, and cumulative effects, and mitigation measure to minimize impacts. Resource areas analyzed in the Draft PEIS include: land use, geological resources, water resources, transportation, air quality, biological resources, socioeconomics and environmental justice, cultural resources, noise, utilities and public services, hazardous materials and wastes, visual resources, recreational resources, and greenhouse gases and climate change.

Based on the analysis presented in the Draft PEIS, significant adverse impacts could occur to land use/Coastal Zone Management and socioconomics/environmental justice. Due to the programmatic nature of the Proposed Action, the analysis determined that there are adverse potentially significant impacts to cultural resources. When considered with other projects there will be both significant and potentially significant cumulative impacts. The Coast Guard invites public response and comments on the Draft PEIS to assist the Coast Guard in improving the analysis and mitigation of environmental impacts associated with the Proposed Action.

Dated: September 29, 2022.
C.J. List,
Rear Admiral, USCG.

[FR Doc. 2022-22075 Filed 10-7-22; 8:45 am]

BILLING CODE 9110-04-P